DEPARTMENT OF ENERGY

Federal Energy Regulatory Commission

[Project No. 2210-207]

Appalachian Power Company; Notice of Application Accepted for Filing and Soliciting Comments, Motions To Intervene, and Protests

Take notice that the following hydroelectric application has been filed with the Commission and is available for public inspection:

a. Application Type: Revised filing of updated shoreline management plan as a result of settlement proceedings.

b. Project No: 2210-207.

c. Date Filed: February 28, 2013.

d. Applicant: Appalachian Power Company.

e. Name of Project: Smith Mountain Pumped Storage Project.

f. Location: Headwaters of the Roanoke River, in Bedford, Campbell, Franklin, and Pittsylvania Counties, Virginia.

g. Filed Pursuant to: Federal Power Act, 16 U.S.C. 791a-825r.

h. Applicant Contact: Frank Simms, American Electric Power Service Corporation, 40 Franklin Rd. SW., Roanoke, VA 24011, (540) 985-2875, fmsimms@aep.com.

i. FERC Contact: Mark Carter, (678) 245-3083, mark.carter@ferc.gov.

j. Deadline for filing comments, motions to intervene, and protests: April 8, 2013.

All documents may be filed electronically via the Internet. See, 18 CFR 385.2001(a)(1)(iii) and the instructions on the Commission's web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, or toll free at 1-866-208-3676, or for TTY, (202) 502-8659. Although the Commission strongly encourages electronic filing, documents may be paper-filed. To paper-file, mail an original and seven copies to: Secretary, Federal Energy Regulatory Commission, 888 First Street NE., Washington, DC 20426. Please include the project number (p-2210-207) on any comments or motions filed.

k. Description of Application: Appalachian Power Company (licensee) filed on January 3, 2011, and supplemented on February 18, 2011, an updated shoreline management plan (updated SMP) for Smith Mountain Lake and Leesville Lake, the two project reservoirs. In response to the Commission's March 17, 2011 public notice of the updated SMP, two parties filed motions to intervene in opposition and several parties filed comments in opposition to the updated SMP. Between December 9, 2011, and February 6, 2013, the licensee, intervening parties, and non-decisional Commission staff participated in settlement proceedings to resolve disputed issues with the updated SMP. On February 28, 2013, the licensee filed a Revised SMP Update that is the result of the settlement proceedings, and proposes several minor changes and the following major changes to the January 3, 2011 SMP filing: (1) Replacing the “50% Rebuild Rule” with three new provisions for permitting, maintaining, and replacing existing structures; (2) revising the process for obtaining a variance from SMP procedures; (3) adding language to clarify the expectation that replacement vegetative cover would flourish; and (4) clarifying the actions the licensee may take if shoreline uses or occupancies are not constructed according to a permit.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-2210) to access the document. You may also register online at http://www.ferc.gov/docs-filing/esubscription.asp to be notified via email of new filings and issuances related to this or other pending projects. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person commenting, protesting, or intervening; and (4) otherwise comply with the requirements of 18 CFR 385.2001 through 385.2005. All comments, motions to intervene, or protests must set forth their evidentiary basis. Any filing made by an intervenor must be accompanied by a proof of service on all persons listed in the service list prepared by the Commission in this proceeding, in accordance with 18 CFR 385.2010.

Dated: March 7, 2013.
Kimberly D. Bose,
Secretary.

[FR Doc. 2013-05946 Filed 3-14-13; 8:45 am]

BILLING CODE 6717-01-P